SURFACE TRANSPORTATION BOARD

[Docket No. AB 1272X]

Central Texas & Colorado River Railway, LLC—Abandonment Exemption—in McCulloch, San Saba, Mills, and Lampasas Counties, Tex.

On August 9, 2019, Central Texas & Colorado River Railway, LLC (CTXR), filed with the Board a petition under 49 U.S.C. 10502 for exemption from the prior approval requirements of 49 U.S.C. 10903 to abandon a railroad line covering approximately 67.5 miles of track in McCulloch, San Saba, Mills, and Lampasas Counties, Tex., (the Line), which constitutes CTXR's entire railroad system. The Line extends from a connection with BNSF Railway Company at milepost 0.0 at Lometa, Tex., to the end of the Line at milepost 67.5 near Brady, Tex. The Line traverses U.S. Postal Service Zip Codes 76825, 76872, 76871, 76877, and 76853.

CTXR states that the Line is predominately single-tracked, is stub-ended at Brady, and has no overhead traffic. According to CTXR, to the best of its knowledge, the Line does not contain any federally granted rights-of-way. CTXR states that any documentation in its possession concerning title will be made available promptly to those requesting it.

According to CTXR, it acquired the Line in 2016. See Central Tex. & Colo. River Ry.—Acquis. & Operation Exemption—Line of Heart of Tex. R.R., FD 36018 (STB served July 14, 2016). However, CTXR states that the Line, which is embargoed as of July 25, 2019, due to bridge problems and unsafe track conditions, has become a burden to CTXR and interstate commerce. The petition states that CTXR has incurred millions of dollars of losses since acquiring the Line and CTXR asserts that the costs of maintaining and operating the Line heavily outweigh the potential annual revenue that could be generated from shippers remaining on the Line. CTXR also states that despite its good faith efforts to work with potential and existing customers to generate sufficient operating revenues, and despite its capital investments, the anticipated traffic increases that motivated the purchase of the Line have not materialized.

Citing Knox & Kane Railroad—Abandonment Exemption—McKean County, Pa., AB 551 (Sub-No. 2X) (STB served July 24, 2015), CTXR asserts that, because it proposes to abandon its entire railroad system, the imposition of employee protective conditions is not appropriate.

By issuance of this notice, the Board is instituting an exemption proceeding pursuant to 49 U.S.C. 10502(b). A final decision will be issued by November 27, 2019.

Any offer of financial assistance (OFA) under 49 CFR 1152.27(b)(2) will be due no later than 120 days after the filing of the petition for exemption, or 10 days after service of a decision granting the petition for exemption, whichever occurs sooner. Persons interested in submitting an OFA must file a formal expression of intent to file an offer by September 9, 2019, indicating the type of financial assistance they wish to provide (i.e., subsidy or purchase) and demonstrating that they are preliminary financially responsible. See 49 CFR 1152.27(c)(1)(i).

Following authorization for abandonment, the Line may be suitable for other public use, including interim trail use. Any request for a public use condition under 49 CFR 1152.28 or for trail use/rail banking under 49 CFR 1152.29 will be due no later than September 18, 2019.¹

¹ Filing fees for OFAs and trail use requests can be found at 49 CFR 1002.2(f)(25) and (27), respectively.

All pleadings, referring to Docket No. AB 1272X, must be filed with the Surface Transportation Board either via e-filing or in writing addressed to 395 E Street SW, Washington, DC 20423-0001. In addition, a copy of each pleading must be served on CTXR's representative, Robert A. Wimbish, Fletcher & Sippel LLC, 29 North Wacker Drive, Suite 800, Chicago, IL 60606. Replies to the petition are due on or before September 18, 2019.

Persons seeking further information concerning abandonment procedures may contact the Board's Office of Public Assistance, Governmental Affairs, and Compliance at (202) 245-0238 or refer to the full abandonment and discontinuance regulations at 49 CFR pt. 1152. Questions concerning environmental issues may be directed to the Board's Office of Environmental Analysis (OEA) at (202) 245-0305. Assistance for the hearing impaired is available through the Federal Relay Service at (800) 877-8339.

An environmental assessment (EA) (or environmental impact statement (EIS), if necessary) prepared by OEA will be served upon all parties of record and upon any agencies or other persons who comment during its preparation. Other interested persons may contact OEA to obtain a copy of the EA (or EIS). EAs in abandonment proceedings normally will be made available within 60 days of the filing of the petition. The deadline for submission of comments on the EA generally will be within 30 days of its service.

Board decisions and notices are available at www.stb.gov.

Decided: August 23, 2019.
By the Board, Allison C. Davis, Director, Office of Proceedings.
Kenyatta Clay,
Clearance Clerk.

[FR Doc. 2019-18647 Filed 8-28-19; 8:45 am]

BILLING CODE 4915-01-P